DEPARTMENT OF THE INTERIOR

National Park Service

[NPS-WASO-D-COS-POL-26833; PPWODIREP0][PPMPSAS1Y.YP0000]

Notice of the December 5, 2018, Meeting of the National Park System Advisory Board

AGENCY: National Park Service, Interior.

ACTION: Notice.

SUMMARY: In accordance with the Federal Advisory Committee Act of 1972, the National Park Service is hereby giving notice that the National Park System Advisory Board (Board) will meet as noted below. This notice is being published less than 15 days prior to the meeting date due to unexpected administrative delays.

DATES: The meeting will be held on Wednesday, December 5, 2018, from 9:30 a.m. to 5:00 p.m. (EASTERN).

ADDRESSES: The meeting will be conducted in the Jefferson Room of the Courtyard Marriott Washington, DC/Foggy Bottom, 515 20th Street NW, Washington, DC 20006, telephone (202) 263-7435.

FOR FURTHER INFORMATION CONTACT: Shirley Sears, Office of Policy, National Park Service, 1849 C Street NW, Mail Stop 2659, Washington, DC 20240, telephone (202) 354-3955, or email shirley_sears@nps.gov.

SUPPLEMENTARY INFORMATION: The Board has been established by authority of the Secretary of the Interior (Secretary) under 54 U.S.C. 100906, and is regulated by the Federal Advisory Committee Act.

The Board will convene at 9:30 a.m. and adjourn at 5:00 p.m. The board will have briefings on the priorities and programs of the National Park Service, including the National Historic Landmarks and National Natural Landmarks programs. The meeting will be open to the public. There will also be a public comment period. The final agenda will be posted to the Board's website prior to the meeting at https://www.nps.gov/advisoryboard.htm. The order of the agenda may be changed, if necessary.

The Board also will permit attendees to address the Board, but may restrict the length of the presentations, as necessary, to allow the Board to complete its agenda within the allotted time.

Anyone may file with the Board a written statement concerning matters to be discussed.

Statements should be sent to shirley_sears@nps.gov.

Public Disclosure of Information: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 2.

Alma Ripps,
Chief, Office of Policy.

[FR Doc. 2018-25934 Filed 11-27-18; 8:45 am]

BILLING CODE 4312-52-P